DEPARTMENT OF COMMERCE

National Oceanic and Atmospheric Administration

RIN 0648-XG082

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Demersal Committee will hold a public meeting via webinar.

DATES: The meeting will be held on Tuesday, March 27, 2018, from 9 a.m. to noon.

ADDRESSES: The meeting will be held via webinar. The webinar may be accessed at http://mafmc.adobeconnect.com/sfsbsb2018fw/. The audio portion of the webinar may also be accessed via phone by dialing 1-800-832-0736 and entering room number 5068871.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Demersal Committee will meet jointly with a subset of the Atlantic States Marine Fisheries Commission's Summer Flounder, Scup, and Black Sea Bass Management Board. The purpose of the meeting is to discuss draft management alternatives for an action which will consider adding the following management options to the Summer Flounder, Scup, and Black Sea Bass Fishery Management Plan: (1) Conservation equivalency for the recreational black sea bass fishery, (2) Transit provisions for Block Island Sound for recreational fisheries for all three species, and (3) Slot limits for recreational fisheries for all three species. The two groups will also discuss the possibility of evaluating and modifying recreational management measures based on the annual catch limit, rather than the recreational harvest limit.

A detailed agenda and background documents will be posted to the Council's website (www.mafmc.org) prior to the meeting.

Special Accommodations

The meeting is physically accessible to people with disabilities. Requests for sign language interpretation or other auxiliary aid should be directed to M. Jan Saunders, (302) 526-5251, at least 5 days prior to the meeting date.

Dated: March 7, 2018.
Tracey L. Thompson,
Acting Deputy Director, Office of Sustainable Fisheries, National Marine Fisheries Service.

[FR Doc. 2018-04864 Filed 3-9-18; 8:45 am]

BILLING CODE 3510-22-P